DEPARTMENT OF COMMERCE

Bureau of Industry and Security

Action Affecting Export Privileges; Omega Engineering, Inc. In the Matter of: Omega Engineering, Inc., One Omega Drive, Stamford, CT 06907; Respondent

Order Waiving Remainder of Denial Order Period

On November 12, 2003, having approved the terms of a settlement agreement between the Bureau of Industry and Security, United States Department of Commerce (“BIS”), and Respondent Omega Engineering, Inc. (“Omega”), then-Assistant Secretary for Export Enforcement Julie L. Myers issued an order (68 Fed. Reg. 65033, Nov. 18, 2003), resolving an administrative proceeding against Omega pursuant to section 13(c) of the Export Administration Act of 1979, as amended (“Act”),¹ and the Export Administration Regulations (“Regulations”),² based on allegations in a proposed charging letter that Omega had committed 17 violations of the Regulations.

¹ 50 U.S.C. app. 2401-2420 (2000). Since August 21, 2001, the Act has been in lapse and the President, through Executive Order 13222 of August 17, 2001 (3 CFR 2001 Comp. 783 (2002)), which has been extended by successive Presidential Notices, the most recent being that of August 15, 2007 (72 Fed. Reg. 46137 (Aug. 16, 2007)), has continued the Regulations in effect under the International Emergency Economic Powers Act (50 U.S.C. 1701-1706 (2000)) (“IEEPA”).

² The Regulations are currently codified in the Code of Federal Regulations at 15 CFR Parts 730-774 (2008). The current version of the Regulations governs the procedural aspects of this case. The charged violations occurred in 1997. The Regulations governing the charged violations are found in the 1997 version of the Code of Federal Regulations (15 CFR Part 730774 (1997)).

Among other things, the November 12, 2003 Order provided a non-standard denial of export privileges that prohibited Omega, for a period of five years from the date of that Order, from participating in any way in any transaction involving the export from the United States to Pakistan of any item subject to the Regulations or in any other activity subject to the Regulations that involves Pakistan.

By letter dated April 25, 2008, Omega submitted a request seeking to terminate the denial order not later than May 6, 2008, rather than on November 12, 2008. Omega's request seeks relief on various grounds, including due to what it has phrased as the “extraordinary support” it provided to BIS in the investigation of another case. The grounds raised by Omega have been considered in full and with the exception of its extraordinary cooperation argument do not merit relief.

Subsequent to the entry of the November 12, 2003 Order, Omega provided extraordinary cooperation in a criminal investigation involving an individual attempting to unlawfully export U.S.-origin goods to Iran. The cooperation provided by the Omega helped enable BIS to obtain evidence that was crucial to the investigation and successful prosecution of that criminal matter.

Accordingly, upon consideration of this extraordinary cooperation provided by Respondent Omega, and upon consideration of the totality of the circumstances found here, it is therefore ordered:

1. That the remainder of the denial order period imposed on Omega Engineering, Inc., One Omega Drive, Stamford, Connecticut 06907, its successors or assigns, and, when acting for or on behalf of Omega, its officers, representatives, agents or employees, under the November 12, 2003 Order is hereby waived upon the effective date of this Order; and

2. This Order shall be effective upon publication in the Federal Register.

Entered this 20th day of June, 2008.
Darryl W. Jackson,
Assistant Secretary of Commerce for Export Enforcement.

[FR Doc. E8-14828 Filed 6-30-08; 8:45 am]

BILLING CODE 3510-DT-M